DEPARTMENT OF HEALTH AND HUMAN SERVICES

Centers for Disease Control and Prevention

National Center for Health Statistics (NCHS), Classifications and Public Health Data Standards Staff, Announces the Following Meeting

Name: ICD-9-CM Coordination and Maintenance Committee meeting.

Time and Date: 9 a.m.-4:30 p.m., March 23-24, 2006.

Place: Centers for Medicare and Medicaid Services (CMS) Auditorium, 7500 Security Boulevard, Baltimore, Maryland 21244.

Status: Open to the public, limited only by the space available.

Purpose: The C&M meeting is a public forum for the presentation of proposed modifications to the International Classification of Diseases, Ninth-Revision, Clinical Modification.

Matters To Be Discussed: Human herpesvirus 6 (HHV-6) encephalitis; Hypoaldosteronism; Long term use of other drugs; Wound botulism; Steven-Johnson syndrome; Normal pressure hydrocephalus; Endosseous dental implant failure; VIN I and VIN II; Multiple endocrine neoplasia (MEN type I, type II, type III); Secondary diabetes; Addenda (diagnosis); NeuroThera™ Stroke Therapy; C Port Mechanical Anastomosis; Systemic/Therapeutic Temperature Management; Thermal Ablation of Liver, Lung, and Renal Lesions or Tissues; Transmyocardial Revascularization; Bronchial Airflow Redirection Valve; Hip Resurfacing; Hip Replacement Bearing Surfaces; Intracranial Pressure Monitoring and Oxygen Monitoring; Repair of Ventricular Septal Defect with Prosthesis—Closed Technique; Surgical Decompression with Insertion Of Interspinous Dynamic Stabilization Device; Infusion of Cintredekin Besudotox; placement of intracerebral catheters; implantable miniature telescope; Addenda (procedures); ICD-10 Procedure Classification System (PCS) Update.

Contact Person for Additional Information: Amy Blum, Medical Systems Specialist, Classifications and Public Health Data Standards Staff, NCHS, 3311 Toledo Road, Room 2402, Hyattsville, Maryland 20782, e-mail alb8@cdc.gov, telephone 301-458-4106 (diagnosis); Mady Hue, Health Insurance Specialist, Division of Acute Care, CMS, 7500 Security Blvd., Baltimore, Maryland, 21244, e-mail Marilu.Hue@cms.hhs.gov, telephone 410-786-4510 (procedures).

Notice: Because of increased security requirements, CMS has instituted stringent procedures for entrance into the building by non-government employees. Persons without a government ID will need to show an official form of picture ID, such as a drivers license, and sign-in at the security desk upon entering the building. Those who wish to attend a specific ICD-9-CM C&M meeting in the CMS auditorium must submit their name and organization for addition to the meeting visitor list. Those wishing to attend the meeting must submit their name and organization by March 17, 2006, for inclusion on the visitor list. This visitor list will be maintained at the front desk of the CMS building and used by the guards to admit visitors to the meeting. Those who attended previous ICD-9-CM C&M meetings will no longer be automatically added to the visitor list. You must request inclusion of your name prior to each meeting you attend. Register to attend the meeting on-line at: http://cms.hhs.gov/events.

The Director, Management Analysis and Services Office, has been delegated the authority to sign Federal Register notices pertaining to announcements of meetings and other committee management activities, for both the Centers for Disease Control and Prevention and the Agency for Toxic Substances and Disease Registry.

Dated: February 23, 2006.
Alvin Hall,
Director, Management Analysis and Services Office, Centers for Disease Control and Prevention.

[FR Doc. E6-2836 Filed 2-28-06; 8:45 am]

BILLING CODE 4163-18-P